FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 7, 2012.

A. Federal Reserve Bank of Richmond (Adam M. Drimer, Assistant Vice President) 701 East Byrd Street, Richmond, Virginia 23261-4528:

1. James D. Moore, Jr., and Judith S. Moore, both of Abingdon, Virginia; Heather M. Post, Asheville, North Carolina; and James D. Moore, III, Sterling, Virginia, as a group acting in concert; to retain voting shares of Highlands Bankshares, Inc., and thereby indirectly retain voting shares of Highlands Union Bank, both in Abingdon, Virginia.

Board of Governors of the Federal Reserve System, October 18, 2012.
Margaret McCloskey Shanks,
Associate Secretary of the Board.

[FR Doc. 2012-26048 Filed 10-22-12; 8:45 am]

BILLING CODE 6210-01-P